DEPARTMENT OF LABOR

Employment and Training Administration

[TA-W-54,273]

KS Bearings, Inc., Greensburg, IN; Notice of Termination of Investigation

Pursuant to section 221 of the Trade Act of 1974, as amended, an investigation was initiated on February 17, 2004, in response to a petition filed by the International Union, United Automobile, Aerospace and Agricultural Implement Workers of America (UAW), Local 1457, on behalf of workers at KS Bearings, Inc., Greensburg, Indiana.

The petition is a duplicate of the petition filed on February 12, 2004 (TA-W-54,248), that is the subject of an ongoing investigation for which a determination has not yet been issued. Further investigation in this case would serve no purpose, and the investigation under this petition is terminated.

Signed in Washington, DC this 19th day of February, 2004.
Linda G. Poole,
Certifying Officer, Division of Trade Adjustment Assistance.

[FR Doc. 04-5078 Filed 3-5-04; 8:45 am]

BILLING CODE 4510-30-P